DEPARTMENT OF THE INTERIOR

Bureau of Land Management

[BLM_WY_FRN_MO4500180137]

Notice of Availability of the Draft Environmental Impact Statement for the Dry Creek Trona Mine Project, Sweetwater County, Wyoming

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the draft Environmental Impact Statement (EIS) for the Dry Creek Trona Mine Project, Sweetwater County, WY.

DATES: To afford the BLM the opportunity to consider comments on the draft EIS, please ensure that the BLM receives your comments within 45 days following the date the Environmental Protection Agency (EPA) publishes its Notice of Availability (NOA) of the draft EIS in the Federal Register. The EPA usually publishes its NOAs on Fridays. The BLM will hold a public meeting during the public comment period. The date, time, and location will be announced at least 15 days prior to the meeting, through public notices, news releases, social media, mailings and the BLM website: https://eplanning.blm.gov/eplanning-ui/admin/project/2016395/510.

ADDRESSES: The draft EIS is available for review on the BLM project website at https://eplanning.blm.gov/eplanning-ui/admin/project/2016395/510.

Written comments related to the Dry Creek Trona Mine EIS may be submitted by any of the following methods:

• Website: https://eplanning.blm.gov/eplanning-ui/admin/project/2016395/510

• Email: BLM_WY_Dry_Creek@blm.gov

• Mail: Dry Creek Trona Mine EIS c/o BLM Kemmerer Field Office, 430 North Highway 189, Kemmerer, WY 83101

Documents pertinent to this proposal may be examined online at https://eplanning.blm.gov/eplanning-ui/admin/project/2016395/510 and at the Kemmerer and Rock Springs Field Offices.

FOR FURTHER INFORMATION CONTACT: Kelly Lamborn, Project Manager, telephone: (307) 828-4505; address: 430 North Highway 189, Kemmerer, WY 83101; email BLM_WY_Dry_Creek@blm.gov. Individuals in the United States who are deaf, deafblind, hard of hearing, or have a speech disability may dial 711 (TTY, TDD, or TeleBraille) to access telecommunications relay services for contacting Ms. Kelly Lamborn. Individuals outside the United States should use the relay services offered within their country to make international calls to the point-of-contact in the United States.

SUPPLEMENTARY INFORMATION: The draft EIS provides the analysis of environmental impacts for the proposed Dry Creek Trona Mine Project. Pacific Soda, LLC (Pacific Soda) owns rights to mine trona resources on private lands and leased BLM administered lands in the Kemmerer Field Office in Sweetwater County, Wyoming. The proposed mine permit area includes two BLM leased sections and three private sections locatedsouth of I-80 and west of Wyoming State Highway 530, south of the town of Green River, Wyoming. The mine plan, if approved by the BLM, would allow Pacific Soda to construct mining facilities and employ solution mining technologies to develop their BLM leases by mining trona beds 2,300 feet below the surface and processing that trona for market. Pacific Soda estimates that approximately 23.5 million tons of trona are in reserve on each section of land within the proposed project area, that mining would occur on each section for 9 to 10 years, and that mined trona would be refined to produce approximately 6.0 million metric tons of marketable soda ash per year and 440,900 metric tons of sodium bicarbonate (baking soda) per year. Key approving agencies are the Wyoming Department of Environmental Quality, the BLM, and the State of Wyoming Industrial Siting Commission.

There are four alternatives under consideration. Approximately the same amount of trona would be mined under each action alternative (i.e., alternatives B, C, and D):

Alternative A—No Action Alternative: The project would not be approved.

Alternative B—Proposed Action: Company proposed action would include processing facilities at the mine location. This alternative includes 26.22 miles of water line and impacts nine acres of USFS managed lands near the Green River. Under the proposed action approximately 6,325 total acres could be impacted, of which about 327 acres is identified as a priority habitat management area (PHMA) for sage grouse, with the remaining acreage a general habitat management area (GHMA).

Alternative C—Modified proposed action: would collocate the transmission line, access road, and rail line and thereby reduce construction in undisturbed areas. The water line would remain the same as Alternative B. Under this alternative approximately 6,387 total acres would be impacted, of which about 324 acres are PHMA, with the remaining acreage being GHMA.

Alternative D—BLM Preferred Alternative: Implementation of Alternative D would result in a larger total project footprint (7,015 acres). Although development of the well field and mine production levels would be unchanged, the processing facilities would be moved from the mine site area to a site north of I-80, approximately 8 miles west of Green River, Wyoming, within a designated processing facilities boundary. The water supply pipeline would be relocated to north of I-80, connecting the processing facilities to the water intake on the Green River, reducing the impacts from 24.66 miles to 6.4 miles, and eliminating the disturbance through the U.S. Forest Service Flaming Gorge Recreation Area and the Blacks Fork PHMA for Greater Sage-Grouse.

The preparation of an EIS is intended to assist the BLM in the decision-making process through the identification, analysis, and public disclosure of potential impacts of the Proposed Action on the human environment, including but not limited to environmental, social, and economic impacts (40 CFR 1502.16). Aside from BLM- and USFS-managed lands, there are no additional federal or Wyoming state-managed lands that would be disturbed by the Proposed Action. Additionally, the BLM is not aware of any other proposed activities in the Dry Creek Trona Mine Project area that would be considered a connected action to the Proposed Action under NEPA.

Purpose and Need for the Proposed Action: The BLM's purpose for the action is to respond to Pacific Soda's Plan of Operations to construct and operate trona mining facilities, including mine well fields, processing facilities, a co-generation plant, storage ponds, access roads, railroad spurs, and utility features. If approved by the BLM, this would allow Pacific Soda the opportunity to develop their valid existing leases on specific public lands within the proposed mining plan boundary as authorized by the Mineral Leasing Act of 1920 (as amended) and FLPMA. Pacific Soda would construct the mining facilities and transportation and utility features specified in the Plan of Operations and SF-299 applications for rights-of-way for off lease facilities.

The need for the action is established by the BLM's responsibility under the Mineral Leasing Act of 1920 (as amended) and FLPMA. Under these statutes, the BLM is required to respond to the Proposed Action and review the proposed Mine Plan and associated SF-299 applications to ensure that proposed mining activities and construction of associated facilities do not cause unnecessary or undue degradation of public lands and are carried out consistent with leasing stipulations and other requirements mandated in the BLM Kemmerer and Green River Resource Management Plans (RMPs), as well as other applicable federal, state, and local statutes and regulations.

Schedule for the Decision-Making Process: The Proposed Final EIS is anticipated to be available for public review in December 2024, and the Record of Decision in March 2025. The BLM will continue to consult with Indian Tribal Nations on a government-to-government basis in accordance with Executive Order 13175, BLM MS 1780, and other Departmental policies. Tribal concerns, including impacts on Indian trust assets and potential impacts to cultural resources, will be given due consideration. Consultation with interested Indian Tribal Nations is ongoing. A Programmatic Agreement for addressing cultural concerns is included in the EIS. Following a thorough NEPA analysis, the BLM's decision includes whether to approve the Plan of Operations and subsequent SF-299 applications (for transportation and utility features) and, if approved, to determine whether modifications and/or additional mitigation measures are required to comply with the FLPMA mandate to prevent unnecessary or undue degradation and conform to leasing stipulations specified in the BLM Kemmerer and Green River RMPs.

The BLM will hold a public meeting during the public comment period. The specific date, time, and location will be announced at least 15 days prior to the meeting, through public notices, news releases, social media, mailings, and the BLM website: https://eplanning.blm.gov/eplanning-ui/admin/project/2016395/510.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Franklin Keeler,
Acting District Manager, BLM High Desert District Office.

[FR Doc. 2024-17683 Filed 8-8-24; 8:45 am]

BILLING CODE 4331-26-P